DEPARTMENT OF LABOR

Employment and Training Administration

[TA-W-81,066]

ConocoPhillips Company, Trainer Refinery, Including On-Site Leased Workers From Shrack, Young, and Associates, Inc., and Project Control Associates, Trainer, PA; Notice of Revised Determination on Reconsideration

On April 30, 2012, the Department of Labor issued a Notice of Affirmative Determination Regarding Application for Reconsideration applicable to workers and former workers of ConocoPhillips Company, Trainer Refinery, Trainer, Pennsylvania (subject firm). The subject firm is engaged in activities related to the production of gasoline, distillate, and heavy oil. The subject worker group includes on-site leased workers from Shrack, Young, and Associates, Inc. and Project Control Services.

Based on information obtained during the reconsideration investigation, the Department determines that increased imports of articles like or directly competitive with gasoline, distillate, and heavy oil contributed importantly to workers' separations.

Section 222(a)(1) has been met because a significant number or proportion of the workers in such workers' firm have become totally or partially separated, or are threatened to become totally or partially separated.

Section 222(a)(2)(A)(i) has been met because the sales and/or production of gasoline, distillate, and heavy oil by ConocoPhillips Company, Trainer Refinery, Trainer, Pennsylvania have decreased absolutely.

Section 222(a)(2)(A)(ii) has been met because imports by ConocoPhillips Company of articles like or directly competitive with those produced by ConocoPhillips Company, Trainer Refinery, Trainer, Pennsylvania, have increased during the relevant period.

Finally, Section 222(a)(2)(A)(iii) has been met because the increased imports contributed importantly to the worker group separations and sales/production declines at ConocoPhillips Company, Trainer Refinery, Trainer, Pennsylvania.

Conclusion

After careful review of the additional facts obtained on reconsideration, I determine that workers of ConocoPhillips Company, Trainer Refinery, Trainer, Pennsylvania, who were engaged in employment related to the production of gasoline, distillate, and heavy oil, meet the worker group certification criteria under Section 222(a) of the Act, 19 U.S.C. 2272(a). In accordance with Section 223 of the Act, 19 U.S.C. 2273, I make the following certification:

All workers of ConocoPhillips Company, Trainer Refinery, including on-site leased workers from Shrack, Young, and Associates, Inc. and Project Control Services, Trainer, Pennsylvania Pennsylvania, who became totally or partially separated from employment on or after February 13 2010, through two years from the date of this certification, and all workers in the group threatened with total or partial separation from employment on date of certification through two years from the date of certification, are eligible to apply for adjustment assistance under Chapter 2 of Title II of the Trade Act of 1974, as amended.

Signed in Washington, DC, this 16th day of July 2012.
Del Min Amy Chen,
Certifying Officer, Office of Trade Adjustment Assistance.

[FR Doc. 2012-18416 Filed 7-27-12; 8:45 am]

BILLING CODE 4510-FN-P